OFFICE OF PERSONNEL MANAGEMENT

5 CFR Part 532

RIN 3206-AN95

Prevailing Rate Systems; Redefinition of the Little Rock, Arkansas, and Tulsa, Oklahoma, Appropriated Fund Federal Wage System Wage Areas

AGENCY: Office of Personnel Management.

ACTION: Proposed rule.

SUMMARY: The Office of Personnel Management (OPM) is issuing a proposed rule that would redefine the geographic boundaries of the Little Rock, Arkansas, and Tulsa, Oklahoma, appropriated fund Federal Wage System (FWS) wage areas. The proposed rule would redefine the Fort Chaffee portion of Franklin County, AR, to the Tulsa wage area. This change is based on a recent consensus recommendation of the Federal Prevailing Rate Advisory Committee (FPRAC).

DATES: Send comments on or before March 16, 2020.

ADDRESSES: You may submit comments, identified by docket number and/or Regulatory Information Number (RIN) and title, by the following method:

• Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: Madeline Gonzalez, by telephone at (202) 606-2838 or by email at pay-leave-policy@opm.gov.

SUPPLEMENTARY INFORMATION: OPM is issuing a proposed rule to redefine the Little Rock, AR, and Tulsa, OK, appropriated fund FWS wage areas. This proposed rule would redefine the Fort Chaffee portion of Franklin County, AR, from the Little Rock wage area to the Tulsa wage area. This change is based on a recent recommendation of FPRAC, the statutory national labor-management committee responsible for advising OPM on matters affecting the pay of FWS employees. From time to time, FPRAC reviews the boundaries of wage areas and provides OPM with recommendations for changes if the Committee finds that changes are warranted.

As provided by 5 CFR 532.211, this regulation allows consideration of the following criteria when defining wage area boundaries: distance, transportation facilities, and geographic features; commuting patterns; and similarities in overall population, employment, and the kinds and sizes of private industrial establishments.

In addition, under OPM regulations at 5 CFR 532.211(2)(b), it is permissible for Metropolitan Statistical Areas (MSAs) to be split between FWS wage areas only in very unusual circumstances.

The Office of Management and Budget (OMB) defines MSAs and maintains and periodically updates the definitions of MSA boundaries. MSAs are composed of counties and are defined on the basis of a central urbanized area—a contiguous area of relatively high population density. Additional surrounding counties are included in MSAs if they have strong social and economic ties to central counties.

When the boundaries of wage areas were first established in the 1960s, there were fewer MSAs than there are today and the boundaries of the then existing MSAs were much smaller. Most MSAs were contained within the boundaries of a wage area. With each OMB update, MSAs have expanded and in some cases now extend beyond the boundaries of the wage area.

Crawford, Franklin, and Sebastian Counties, AR, and Sequoyah County, OK, comprise the Fort Smith, AR-OK MSA. The Fort Smith MSA is split between the Little Rock, AR, and Tulsa, OK, wage areas. Crawford, Sebastian, and Sequoyah Counties are part of the Tulsa wage area, and Franklin County is part of the Little Rock wage area.

Crawford, Sebastian, and Sequoyah Counties continue to be appropriately defined to the Tulsa wage area. Managed by the Forest Service, the Ozark National Forest is located in parts of 16 counties in northwestern Arkansas. There are FWS Forest Service employees working in the Ozark National Forest portion of Franklin and Stone Counties. To avoid splitting the Forest Service employees working in the Ozark National Forest between two wage areas, Franklin County also continues to be appropriately defined to the Little Rock wage area.

However, in addition to the Forest Service employees currently working in Franklin County, there are now three Department of the Army employees working in the portion of Fort Chaffee located in Franklin County. The Department of the Army also employs 74 FWS employees in the portion of Fort Chaffee located in Sebastian County. So that the FWS employees working at Fort Chaffee are not split between two wage areas, OPM proposes that the Fort Chaffee portion of Franklin County be redefined to the Tulsa wage area. Fort Chaffee would then be entirely defined to the Tulsa wage area. This change would provide equal pay treatment for FWS employees working at Fort Chaffee.

FPRAC, the national labor-management committee responsible for advising OPM on matters concerning the pay of FWS employees, recommended this change by consensus. This change would be effective on the first day of the first applicable pay period beginning on or after 30 days following publication of the final regulations.

Regulatory Impact Analysis

This action is not a “significant regulatory action” under the terms of Executive Order (E.O.) 12866 (58 FR 51735, October 4, 1993) and is therefore not subject to review under E.O. 12866 and 13563 (76 FR 3821, January 21, 2011).

Reducing Regulation and Controlling Regulatory Costs

This rule is not an Executive Order 13771 regulatory action because this rule is not significant under E.O. 12866.

Regulatory Flexibility Act

OPM certifies that this rule will not have a significant economic impact on a substantial number of small entities.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business “Regulatory Enforcement Fairness Act of 1996” (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Alexys Stanley,
Regulatory Affairs Analyst.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix C to subpart B amend the table by revising the wage area listings for the States of “Arkansas” and “Oklahoma” to read as follows:

Appendix C to Subpart B of Part 532—Appropriated Fund Wage and Survey Areas

DEFINITIONS OF WAGE AREAS AND WAGE AREA SURVEY AREAS

* * * * *
ARKANSAS
Little Rock
Survey Area
Arkansas:
Jefferson
Pulaski
Saline
Area of Application. Survey area plus:
Arkansas:
Arkansas
Ashley
Baxter
Boone
Bradley
Calhoun
Chicot
Clay
Clark
Cleburne
Cleveland
Conway
Dallas
Desha
Drew
Faulkner
Franklin (Does not include the Fort Chaffee portion)
Fulton
Garland
Grant
Greene
Hot Spring
Independence
Izard
Jackson
Johnson
Lawrence
Lincoln
Logan
Lonoke
Marion
Monroe
Montgomery
Newton
Ouachita
Perry
Phillips
Pike
Polk
Pope
Prairie
Randolph
Scott
Searcy
Sharp
Stone
Union
Van Buren
White
Woodruff
Yell
* * * * *
OKLAHOMA
Oklahoma City
Survey Area
Oklahoma:
Canadian
Cleveland
McClain
Oklahoma
Pottawatomie
Area of Application. Survey area plus:
Oklahoma:
Alfalfa
Atoka
Beckham
Blaine
Bryan
Caddo
Carter
Coal
Custer
Dewey
Ellis
Garfield
Garvin
Grady
Grant
Harper
Hughes
Johnston
Kingfisher
Lincoln
Logan
Love
Major
Marshall
Murray
Noble
Payne
Pontotoc
Roger Mills
Seminole
Washita
Woods
Woodward
Tulsa
Survey Area
Oklahoma:
Creek
Mayes
Muskogee
Osage
Pittsburg
Rogers
Tulsa
Wagoner
Area of Application. Survey area plus:
Arkansas:
Benton
Carroll
Crawford
Franklin (Only includes the Fort Chaffee portion)
Madison
Sebastian
Washington
Missouri:
McDonald
Oklahoma:
Adair
Cherokee
Choctaw
Craig
Delaware
Haskell
Kay
Latimer
LeFlore
McCurtain
McIntosh
Nowata
Okfuskee
Okmulgee
Ottawa
Pawnee
Pushmataha
Sequoyah
Washington
* * * * *

[FR Doc. 2020-02833 Filed 2-12-20; 8:45 am]

BILLING CODE 6325-39-P